DEPARTMENT OF ENERGY

Federal Energy Regulatory Commission

Combined Notice of Filings #1

October 14, 2005.

Take notice that the Commission received the following electric rate filings:

Docket Numbers: ER02-137-003; ER06-16-000.

Applicants: Mohawk River Funding III, LLC.

Description: Mohawk River Funding III, LLC submits a notice of cancellation of market-based rate authority under Rate Schedule FERC Original Volume No. 1.

Filed Date: October 6, 2005.

Accession Number: 20051011-0063.

Comment Date: 5 p.m. Eastern Time on Thursday, October 27, 2005.

Docket Numbers: ER02-579-004.

Applicants: Capital District Energy Center Cogeneration Associates.

Description: Capital District Energy Center Cogeneration Associates submits an amendment to its FERC Electric Rate Schedule No. 1.

Filed Date: October 6, 2005.

Accession Number: 20051012-0016.

Comment Date: 5 p.m. Eastern Time on Thursday, October 27, 2005.

Docket Numbers: ER05-1179-003.

Applicants: Berkshire Power Company, LLC.

Description: Berkshire Power Co., LLC submits a modified Cost of Service Agreement with ISO New England LLC.

Filed Date: October 6, 2005.

Accession Number: 20051012-0012.

Comment Date: 5 p.m. Eastern Time on Thursday, October 27, 2005.

Docket Numbers: ER05-1315-001.

Applicants: NorthWestern Corporation.

Description: NorthWestern Corp submits a revised, unexectued amended Firm Point-to-Point Transmission Service Agreement No. 10-SD in compliance with FERC's September 21, 2005 Order.

Filed Date: October 6, 2005.

Accession Number: 20051011-0070.

Comment Date: 5 p.m. Eastern Time on Thursday, October 27, 2005.

Docket Numbers: ER05-1316-001.

Applicants: Kumeyaay Wind LLC.

Description: Kumeyaay Wind, LLC notifies FERC of a change in status as a result of a change in its upstream ownership.

Filed Date: October 7, 2005.

Accession Number: 20051012-0002.

Comment Date: 5 p.m. Eastern Time on Monday, October 17, 2005.

Docket Numbers: ER05-235-002.

Applicants: El Paso Marketing, L.P.

Description: El Paso Marketing LP submits an amendment to its Rate Schedule FERC No. 1.

Filed Date: October 6, 2005.

Accession Number: 20051012-0011.

Comment Date: 5 p.m. Eastern Time on Thursday, October 27, 2005.

Docket Numbers: ER06-10-000.

Applicants: Southern Company Services, Inc.

Description: Southern Company Services, Inc, agent for Alabama Power Co et al. submits an Amendment to Open Access Transmission Tariff, FERC Electric Tariff, Fourth Revised Volume No. 5.

Filed Date: October 3, 2005.

Accession Number: 20051007-0012.

Comment Date: 5 p.m. Eastern Time on Monday, October 24, 2005.

Docket Numbers: ER06-13-000; RM02-1-006.

Applicants: Aquila Inc.

Description: Aquila, Inc on behalf of Aquila Networks-MPS et al. submit revisions to each of its Open Access Transmission Tariffs in compliance with Order 2003-C.

Filed Date: October 6, 2005.

Accession Number: 20051011-0067.

Comment Date: 5 p.m. Eastern Time on Thursday, October 27, 2005.

Docket Numbers: ER06-14-000.

Applicants: Cleco Power LLC.

Description: Cleco Power, LLC's Notice of Cancellation of the Interconnection and Operating Agreement with Columbian Chemicals Co.

Filed Date: October 6, 2005.

Accession Number: 20051011-0068.

Comment Date: 5 p.m. Eastern Time on Thursday, October 27, 2005.

Docket Numbers: ER98-4289-003; -004, -005.

Applicants: Montana-Dakota Utilities Company.

Description: Montana-Dakota Utilities Co a Division of MDU Resources Group Inc submits Substitute Second Revised Sheet No. 2 et al. to FERC Electric Tariff, Original Volume No. 2.

Filed Date: October 6, 2005.

Accession Number: 20051011-0274.

Comment Date: 5 p.m. Eastern Time on Thursday, October 27, 2005.

Docket Numbers: ER99-2342-004, -005; ER01-931-008, -009; ER01-930-008, -009; ER96-1563-021, -022; ER99-415-007,-008; ER02-510-004, -005; ER02-507-004, -005; ER02-1000-005, -006.

Applicants: Tampa Electric Company; Panda Gila River, L.P.; Union Power Partners, L.P.; TECO EnergySource, Inc.; Commonwealth Chesapeake Company, L.L.C.; TPS Dell, LLC; TPS McAdams, LLC; TECO-PANDA Generating Company, L.P.

Description: Tampa Electric Co et al. submit an amendment to its compliance filing of September 12, 2005.

Filed Date: October 5, 2005.

Accession Number: 20051007-0110.

Comment Date: 5 p.m. Eastern Time on Wednesday, October 26, 2005.

Docket Numbers: ER99-3502-004.

Applicants: Berkshire Power Company, LLC.

Description: Berkshire Power, LLC submits revised market-based rate schedule in compliance with staff's request.

Filed Date: October 6, 2005.

Accession Number: 20051012-0015.

Comment Date: 5 p.m. Eastern Time on Thursday, October 27, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E5-5802 Filed 10-20-05; 8:45 am]

BILLING CODE 6717-01-P